DEPARTMENT OF TRANSPORTATION

National Highway Traffic Safety Administration

[Docket No. NHTSA-2016-0105]

Traffic Safety for Older Road Users Meeting

AGENCY: National Highway Traffic Safety Administration (NHTSA), U.S. Department of Transportation (DOT).

ACTION: Notice.

SUMMARY: The National Highway Traffic Safety Administration (NHTSA) is announcing a meeting that will be held in Washington, DC on November 3, 2016 to discuss older driver traffic safety program priorities and current research efforts. The Traffic Safety for Older Road Users meeting will include presentations and discussions on a number of topics including older driver demographics; research on understanding the dynamics, mechanisms, determinants and consequences of older driver safety; integration of law enforcement information, education of licensing agency personnel, aging services providers and medical personnel; identification and services for at-risk drivers; state and local mobility alternatives and the future potential of connected and automated vehicles for an aging population. Attendance at the meeting is limited to invited participants because of space limitations of the DOT Conference Center. However, the meeting will be available for live public viewing on the NHTSA Web site (www.nhtsa.gov).

DATES: The meeting will be held on November 3, 2016 from 9:00 a.m. to 4:30 p.m.

ADDRESSES: The meeting will be held in the Media Center of the U.S. Department of Transportation, 1200 New Jersey Avenue SE., Washington, DC 20590.

FOR FURTHER INFORMATION CONTACT: Mr. Brian Chodrow, Telephone: 202-366-9765; email address: brian.chodrow@dot.gov.

SUPPLEMENTARY INFORMATION: NHTSA will host a meeting to focus on ways to improve the safety of older drivers over the next 5-10 years. The Traffic Safety for Older Road Users Meeting will begin with an introduction by NHTSA Administrator Mark Rosekind, followed by a discussion of the demographics of older road users, effective technologies to ensure safe driving for older people, and integrating information from law enforcement, licensing agencies, aging services providers and medical care providers. A panel discussion will then explore methods for identifying and serving at-risk drivers, leading to the identification of State and local alternatives. The meeting will conclude with a discussion on connected and automated vehicles—the future of mobility for an aging population.

Invited participants will include representatives from a number of fields including the behavioral and engineering sciences, traffic and highway safety, and public health, as well as from diverse organizations including advocacy groups, industry, state government, and other Federal Agencies.

NHTSA will facilitate sharing of important information regarding programs to improve the safety of older road users. Saving lives by preventing traffic deaths is a top priority of this Administration.

Workshop Procedures. NHTSA will conduct the meeting informally. Thus, technical rules of evidence will not apply. The meeting will consist of presentations and panels. Each panel will have two or three short presentations, a roundtable discussion among the panel members, and participant questions to be discussed by the panel members and other meeting participants.

Authority: 49 U.S.C. 30182.

Issued in Washington, DC, on October 20, 2016.
Jeff Michael,
Associate Administrator, Research and Program Development.

[FR Doc. 2016-25768 Filed 10-24-16; 8:45 am]

BILLING CODE 4910-59-P